DEPARTMENT OF THE INTERIOR

Bureau of Reclamation

Glen Canyon Adaptive Management Work Group and Glen Canyon Technical Work Group

AGENCY: Bureau of Reclamation, Interior.

ACTION: Notice of public meetings.

SUMMARY: The Adaptive Management Program (AMP) was implemented as a result of the Record of Decision on the Operation of Glen Canyon Dam Final Environmental Impact Statement and to comply with consultation requirements of the Grand Canyon Protection Act (Pub.L. 102-575) of 1992. The AMP provides an organization and process to ensure the use of scientific information in decisionmaking concerning Glen Canyon Dam operations and protection of the affected resources consistent with the Grand Canyon Protection Act. The AMP has been organized and includes a federal advisory committee (the Glen Canyon Adaptive Management Work Group, or AMWG), a technical work group (the Glen Canyon Technical Work Group, or TWG), a monitoring and research center, and independent review panels. The TWG is a subcommittee of the AMWG and provides technical advice and information for the AMWG to act upon.

Dates and Location: The AMWG will conduct two public meetings as follows:

Phoenix, Arizona—January 10-11, 2001

The meeting will begin at 9:30 a.m. and conclude at 4:00 p.m. on the first day and begin at 8:00 a.m. and conclude at 12 noon on the second day. The meeting will be held at the Bureau of Indian Affairs—Western Regional Office, 2 Arizona Center, Conference Rooms A and B (12th Floor), 400 North 5th Street, Phoenix, Arizona.

Agenda: The purpose of the meeting will be to discuss the following: management objectives, basin hydrology, FY 2002 budget, development of the AMP Strategic Plan, environmental compliance, and other administrative issues pertaining to the AMP.

The Glen Canyon Technical Work Group will conduct one public meeting as follows:

Phoenix, Arizona—November 8-9, 2000

The meeting will begin at 9:30 a.m. and conclude at 4 p.m. on the first day and begin at 8 a.m. and conclude at 12 noon on the second day. The meeting will be held at the Arizona Department of Water Resources, 500 N. Third Street, Conference Room B (Nov. 8) and Conference Room A (Nov. 9), Phoenix, Arizona.

Agenda: The purpose of the meeting will be to discuss the following: management objectives and information needs, fundamentals of power generation and repayment, basin hydrology and expected Glen Canyon Dam releases, FY 2001 and 2002 budgets, Protocol Evaluation Panel reviews, agenda topics for the AMWG meeting on January 10-11, 2001, and other administrative issues pertaining to the AMP.

Agenda items may be revised prior to any of the meetings. Final agendas will be posted 15 days in advance of each meeting and can be found on the Bureau of Reclamation's website under Environmental Programs at: http://www.uc.usbr.gov. Time will be allowed on each agenda for any individual or organization wishing to make formal oral comments (limited to 10 minutes) at the meetings.

To allow full consideration of information by the TWG and AMWG members, written notice must be provided to Randall Peterson, Bureau of Reclamation, Upper Colorado Regional Office, 125 South State Street, Room 6107, Salt Lake City, Utah 84138-1102; telephone (801) 524-3758; faxogram (801) 524-3858; E-mail at: rpeterson@uc.usbr.gov at least FIVE (5) days prior to the meeting. Any written comments received will be provided to the TWG and AMWG members at the meetings.

FOR FURTHER INFORMATION CONTACT: Randall Peterson, telephone (801) 524-3758; faxogram (801) 524-3858; rpeterson@uc.usbr.gov.

Dated: October 16, 2000.
Eluid L. Martinez,
Commissioner, Bureau of Reclamation.

[FR Doc. 00-26934 Filed 10-18-00; 8:45 am]

BILLING CODE 4310-MN-P